DEPARTMENT OF AGRICULTURE

Animal and Plant Health Inspection Service

[Docket No. APHIS-2019-0045]

National Wildlife Services Advisory Committee; Meeting; Correction

AGENCY: Animal and Plant Health Inspection Service, USDA.

ACTION: Notice of meeting; correction.

SUMMARY: We are correcting an error in a notice published in the Federal Register on August 6, 2019, which announced a forthcoming National Wildlife Services Committee meeting. We provided an incorrect arrival time for attendees. This document corrects that error.

The meeting will still begin at 8 a.m. and end at 5 p.m. on September 18 and 19, 2019.

FOR FURTHER INFORMATION CONTACT: Ms. Carrie Joyce, Designated Federal Officer, Wildlife Services, APHIS, 4700 River Road, Unit 87, Riverdale, MD 20737; (301) 851-3999.

SUPPLEMENTARY INFORMATION:

Correction

In a notice published in the Federal Register on August 6, 2019, FR Doc. 2019-16758, on page 38202, third column, under SUPPLEMENTARY INFORMATION, third paragraph, correct the second sentence to read:

Attendees should arrive between 7:30 and 8 a.m.

Done in Washington, DC, this 10th day of September 2019 .
Cikena Reid,
Committee Management Officer, USDA.

[FR Doc. 2019-19892 Filed 9-13-19; 8:45 am]

BILLING CODE 3410-34-P